ENVIRONMENTAL PROTECTION AGENCY

[EPA-HQ-OPP-2024-0094; FRL-11983-01-OCSPP]

Pesticide Registration Maintenance Fee; Notice of Receipt of Requests To Voluntarily Cancel Certain Pesticide Registrations

AGENCY: Environmental Protection Agency (EPA).

ACTION: Notice.

SUMMARY: In accordance with the Federal Insecticide, Fungicide, and Rodenticide Act (FIFRA), EPA is issuing a notice of receipt of requests by registrants through 2023 Pesticide Registration Maintenance Fee responses to voluntarily cancel certain pesticide registrations. EPA intends to grant these requests at the close of the comment period for this announcement unless the Agency receives substantive comments within the comment period that would merit its further review of the requests, or unless the registrants withdraw its requests. If these requests are granted, any sale, distribution, or use of products listed in this notice will be permitted after the registrations have been cancelled only if such sale, distribution, or use is consistent with the terms as described in the final order.

DATES: Comments must be received on or before August 26, 2024.

ADDRESSES: Submit your comments, identified by docket identification (ID) number EPA-HQ-OPP-2024-0094, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/dockets.

Submit written withdrawal request by mail to: Registration Division (7505M), Office of Pesticide Programs, Environmental Protection Agency, 1200 Pennsylvania Ave. NW, Washington, DC 20460-0001. ATTN: Brenda Minnema.

FOR FURTHER INFORMATION CONTACT: Brenda Minnema, Registration Division (7505M), Office of Pesticide Programs, Environmental Protection Agency, 1200 Pennsylvania Ave. NW, Washington, DC 20460-0001; telephone number: (202) 566-2840; email address: minnema.brenda@epa.gov.

SUPPLEMENTARY INFORMATION:

I. General Information

A. Does this action apply to me?

This action is directed to the public in general and may be of interest to a wide range of stakeholders including environmental, human health, and agricultural advocates; the chemical industry; pesticide users; and members of the public interested in the sale, distribution, or use of pesticides.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov/dockets/commenting-epa-dockets.

II. What action is the Agency taking?

This notice announces receipt by the Agency of requests from registrants to cancel 376 pesticide products registered under FIFRA section 3 (7 U.S.C. 136a) or section 24(c) (7 U.S.C. 136v(c)). These registrations are listed in sequence by registration number (or company number and 24(c) number) in Table 1 of this unit.

Unless the Agency determines that there are substantive comments that warrant further review of the requests or the registrants withdraw their requests, EPA intends to issue an order in the Federal Register canceling all the affected registrations.

Table 1—Registrations With Pending Requests for Cancellation
Company No. | Registration No. | Product name | Active ingredient
100 | 100-1037 | Clipper E 20 UL Tree Growth Regulator | Paclobutrazol (125601/76738-62-0)—(2.51%).
100 | 100-885 | Dividend XL | Difenoconazole (128847/119446-68-3)—(16.5%), Metalaxyl-M (113502/70630-17-0)—(1.38%).
100 | 100-995 | Clipper 20 UL | Paclobutrazol (125601/76738-62-0)—(2.51%).
239 | 239-2666 | Weed-B-Gon Ready-Spray Isomer Formula | 2,4-D, dimethylamine salt (030019/2008-39-1)—(3.05%), Dicamba, dimethylamine salt (029802/2300-66-5)—(1.3%), MCPP-P, DMA salt (031520/66423-09-4)—(5.3%).
239 | 239-2694 | Ortho Season-Long Grass & Weed Killer | Diquat dibromide (032201/85-00-7)—(.1%), Glyphosate (417300/1071-83-6)—(8%), Oxyfluorfen (111601/42874-03-3)—(1.5%).
239 | 239-2706 | Ortho Season Long Weed & Grass Killer Plus Preventer Ready-Spray II | Diquat dibromide (032201/85-00-7)—(.1%), Glyphosate, isopropylamine salt (103601/38641-94-0)—(8%), Oxyfluorfen (111601/42874-03-3)—(1.5%).
239 | 239-2707 | Ortho Max Tree & Shrub Insect Control Ready-Spray II | Imidacloprid (129099/138261-41-3)—(1.47%).
264 | 264-998 | Four Way Peanut Seed Treatment Fungicide | Captan (081301/133-06-2)—(49%), Metalaxyl (113501/57837-19-1)—(.8%), Thiophanate-methyl (102001/23564-05-8)—(13.6%), Trifloxystrobin (129112/141517-21-7)—(2%).
270 | 270-339 | F793 Insecticide | Diflubenzuron (108201/35367-38-5)—(.24%).
279 | 279-3350 | F6482 Turf and IVM | Metribuzin (101101/21087-64-9)—(27%), Sulfentrazone (129081/122836-35-5)—(18%).
279 | 279-3552 | Accurate Herbicide | Metsulfuron (122010/74223-64-6)—(60%).
352 | 352-595 | Dupont Chlorimuron Ethyl 54 DF | Chlorimuron (128901/90982-32-4)—(54%).
352 | 352-877 | Dupont DPX-121 Herbicide | Rimsulfuron (129009/122931-48-0)—(16.7%), Thifensulfuron (128845/79277-27-3)—(16.7%).
464 | 464-616 | Dowicide 1/PG Antimicrobial | o-Phenylphenol (NO INERT USE) (064103/90-43-7)—(63%).
464 | 464-722 | Aqucar(TM) OPP 63 Water Treatment Microbiocide | o-Phenylphenol (NO INERT USE) (064103/90-43-7)—(63%).
499 | 499-535 | LX417 Lambda-Cyhalothrin | lambda-Cyhalothrin (128897/91465-08-6)—(9.7%).
538 | 538-303 | Grubex 2 | Imidacloprid (129099/138261-41-3)—(.2%).
577 | 577-558 | Sherwin-Williams Seaguard Vinyl Anti-Foulant | Cuprous oxide (025601/1317-39-1)—(66.9%).
577 | 577-559 | Sherwin-Williams Seaguard Vinyl Anti-Foulant Black | Cuprous oxide (025601/1317-39-1)—(55.7%).
577 | 577-561 | Mil-P-15931F Formula 121 Anti-Foulant Red | Cuprous oxide (025601/1317-39-1)—(69.69%).
577 | 577-562 | Mil-P-15931F Formula-129 Antifoulant Black | Cuprous oxide (025601/1317-39-1)—(57%).
675 | 675-1 | Vani-Sol Bowl Cleanse | Hydrochloric acid (045901/7647-01-0)—(23%).
777 | 777-108 | Gattuso GP | Citric acid (021801/77-92-9)—(3.5%).
777 | 777-129 | Phoenix Wipes | Alkyl* dimethyl benzyl ammonium chloride *(50%C14, 40%C12, 10%C16) (069105/68424-85-1)—(.355%).
961 | 961-368 | Lebanon Crab-Buster Plus Lawn Food | Dithiopyr (128994/97886-45-8)—(.06%).
961 | 961-412 | Lebanon Herbicide Granules Formula D-11 | Dithiopyr (128994/97886-45-8)—(.11%).
1022 | 1022-594 | Cusol-1 | Copper ethanolamine complex (024410/14515-52-5)—(2.92%).
1258 | 1258-1042 | Pace Spa & Hot Tub Chlorinator | Sodium dichloroisocyanurate dihydrate (081407/51580-86-0)—(99%).
1258 | 1258-1066 | Calcium Hypochlorite Sanitizer Granular—60 | Calcium hypochlorite (014701/7778-54-3)—(62%).
1258 | 1258-1075 | Pace Concentrated Algaecide | Trichloro-s-triazinetrione (081405/87-90-1)—(99%).
1258 | 1258-1245 | Arch Technical Trichloro-S-Triazinetrione | Trichloro-s-triazinetrione (081405/87-90-1)—(99.5%).
1258 | 1258-1246 | HTH Super Sock It Shock N' Swim Shock Treatment & Superchlorinator for Swimming | Calcium hypochlorite (014701/7778-54-3)—(62.4%).
1258 | 1258-1259 | HTH Duration Clean Capsules | Calcium hypochlorite (014701/7778-54-3)—(47.6%).
1258 | 1258-1273 | Pool Breeze Pool Care System 14 Day Sanitizing Tablets | Trichloro-s-triazinetrione (081405/87-90-1)—(99%).
1258 | 1258-1274 | Baquacil AD | Poly(oxy-1,2-ethanediyl(dimethylimino)-1,2-ethanediyl(dimethylimino)-1,2-ethanediyl dichloride) (069183/31512-74-0)—(20%).
1258 | 1258-1280 | Pool Breeze Pool Care System Copper Algicide | Copper triethanolamine complex (024403/82027-59-6)—(7.1%).
1258 | 1258-1283 | AW10 | Sodium dichloroisocyanurate dihydrate (081407/51580-86-0)—(99%).
1258 | 1258-1321 | Copper Algaecide | Copper triethanolamine complex (024403/82027-59-6)—(9%).
1258 | 1258-1329 | AW02 Tablets | Calcium hypochlorite (014701/7778-54-3)—(47.6%), Zinc sulfate monohydrate (527200/7446-19-7)—(1.96%).
1258 | 1258-1331 | AW01 Granular | Calcium hypochlorite (014701/7778-54-3)—(38.1%), Zinc sulfate monohydrate (527200/7446-19-7)—(11.8%).
1258 | 1258-1332 | AW07 | Calcium hypochlorite (014701/7778-54-3)—(53%).
1258 | 1258-1334 | AW09 | Calcium hypochlorite (014701/7778-54-3)—(47.1%).
1258 | 1258-1337 | AW13 | Trichloro-s-triazinetrione (081405/87-90-1)—(97.3%).
1258 | 1258-1349 | AW79 | Sodium hypochlorite (014703/7681-52-9)—(14%).
1258 | 1258-1361 | AW91 (Pro) | Calcium hypochlorite (014701/7778-54-3)—(75%).
1258 | 1258-1363 | SS Solid MUP | Poly(iminoimidocarbonyliminoimidocarbonyliminohexamethylene) hydrochloride (111801/32289-58-0)—(75%).
1258 | 1258-995 | Pace 14 Day Super Tab Concentrated Pool Chlorinator | Trichloro-s-triazinetrione (081405/87-90-1)—(99%).
2382 | 2382-104 | Preventic Tick Collar for Dogs | Amitraz (106201/33089-61-1)—(9%).
2724 | 2724-687 | Security E Z E Garden Weed Killer | Trifluralin (036101/1582-09-8)—(1.75%).
2724 | 2724-794 | WMI 0.67% Diflubenzuron Cattle Supplement | Diflubenzuron (108201/35367-38-5)—(.67%).
2724 | 2724-795 | WMI 0.04% Diflubenzuron Cattle | Diflubenzuron (108201/35367-38-5)—(.04%).
2724 | 2724-798 | RF2128 Dry Concentrate | Diflubenzuron (108201/35367-38-5)—(8%).
2724 | 2724-801 | RF 2128 Dry Concentrate MUP | Diflubenzuron (108201/35367-38-5)—(8%).
2724 | 2724-816 | RF2163 Dry Concentrate | Diflubenzuron (108201/35367-38-5)—(.16%).
2749 | 2749-591 | Aceto Etoxazole 72% WSB Miticide | Etoxazole (107091/153233-91-1)—(72%).
2749 | 2749-595 | Aceto Etoxazole 72% WP in WSP Miticide | Etoxazole (107091/153233-91-1)—(72%).
2749 | 2749-603 | AG36076 2.88 SC Miticide | Etoxazole (107091/153233-91-1)—(31.7%).
2749 | 2749-619 | AG35814 B 30 SG Insecticide | Acetamiprid (099050/135410-20-7)—(30%).
2749 | 2749-620 | AG35814 B 70 WP Insecticide | Acetamiprid (099050/135410-20-7)—(70%).
2749 | 2749-621 | AG35814 C 70 WP Insecticide | Acetamiprid (099050/135410-20-7)—(70%).
2749 | 2749-622 | AG35814 C 30 SG Insecticide | Acetamiprid (099050/135410-20-7)—(30%).
2935 | 2935-506 | Wilbur-Ellis Ben-Sul 85 | Sulfur (077501/7704-34-9)—(85%).
2935 | 2935-555 | Deadlock G | Zeta-Cypermethrin (129064/1315501-18-8)—(.25%).
4972 | 4972-23 | Protexall Ant-Kil | Boric acid (011001/10043-35-3)—(6%).
5383 | 5383-202 | Omniphase 678 | 1,2-Benzisothiazolin-3-one (098901/2634-33-5)—(4.6%), Carbamic acid, butyl-, 3-iodo-2-propynyl ester (107801/55406-53-6)—(5%), Carbendazim (128872/10605-21-7)—(15%).
5383 | 5383-203 | Omniphase 663 | 1,2-Benzisothiazolin-3-one (098901/2634-33-5)—(1.1%), Carbamic acid, butyl-, 3-iodo-2-propynyl ester (107801/55406-53-6)—(3%), Carbendazim (128872/10605-21-7)—(9%), Diuron (035505/330-54-1)—(15%).
7048 | 7048-4 | Bio-Magic Rinse | Alkyl* dimethyl benzyl ammonium chloride *(60%C14, 30%C16, 5%C18, 5%C12) (069104/53516-76-0)—(6%), Alkyl* dimethyl ethylbenzyl ammonium chloride *(50%C12, 30%C14, 17%C16, 3%C18) (069111/8045-21-4)—(6%).
7319 | 7319-6 | Lurectron Scatterbait | Methomyl (090301/16752-77-5)—(1%), cis-9-Tricosene (103201/27519-02-4)—(.26%).
7364 | 7364-104 | Sodium Bromide Powder | Sodium bromide (013907/7647-15-6)—(98%).
7364 | 7364-105 | AW Nova | Sodium dichloroisocyanurate dihydrate (081407/51580-86-0)—(99%).
7364 | 7364-106 | AW Dart | Sodium bromide (013907/7647-15-6)—(98%).
7364 | 7364-89 | Pool Pal 400 Algaecide | Alkyl* dimethyl benzyl ammonium chloride *(60%C14, 25%C12, 15%C16) (069137/68424-85-1)—(10%).
7754 | 7754-41 | Bug Barrier II | Diethyl toluamide (080301/134-62-3)—(25%), MGK 264 (057001/113-48-4)—(5%), MGK 326 (047201/136-45-8)—(2.5%).
7946 | 7946-31 | Arborfos HP | Dipotassium phosphite (K2HPO3) (076416/13492-26-7)—(45.8%).
9009 | 9009-14 | So-White 6.40% Hypochlorite Dairy, Farm & Home Use | Sodium hypochlorite (014703/7681-52-9)—(6.4%).
9198 | 9198-115 | The Andersons Turf Fungicide with 5.0% Daconil | Chlorothalonil (081901/1897-45-6)—(5%).
9198 | 9198-207 | Andersons Golf Products Golden Eagle Fungicide | Myclobutanil (128857/88671-89-0)—(1%).
9198 | 9198-257 | The Andersons 0.067% Acelepryn Insecticide Plus 0.222% Dimension Herbicide on F | Chlorantraniliprole (090100/500008-45-7)—(.067%), Dithiopyr (128994/97886-45-8)—(.222%).
9215 | 9215-12 | All Clear 3 Tablets Jumbo Chlorinating Tablets7 | Trichloro-s-triazinetrione (081405/87-90-1)—(99%).
10324 | 10324-17 | Maquat MQ2525-50 | 25.0000% Alkyl* dimethyl benzyl ammonium chloride *(60%C14, 30%C16, 5%C18, 5%C12) (PC:69104 CAS:53516-76-0) 25.0000% Alkyl* dimethyl ethylbenzyl ammonium chloride *(50%C12, 30%C14, 17%C16, 3%C18) (PC:69111 CAS:8045-21-4).
10324 | 10324-26 | Maquat MC 6025-50% | 50.0000% Alkyl* dimethyl benzyl ammonium chloride *(60%C14, 25%C12, 15%C16) (PC:69137 CAS:68424-85-1).
10324 | 10324-98 | Maquat MC5815 | 50.0000% Alkyl* dimethyl benzyl ammonium chloride *(58%C14, 28%C16, 14%C12) (PC:69141 CAS:68424-85-1).
10707 | 10707-62 | Biosorb 1250 | 23.0000% Glutaraldehyde (PC:43901 CAS:7420-89-5).
10707 | 10707-63 | XC408 Biocide | 30.0000% Alkyl* dimethyl benzyl ammonium chloride *(67%C12, 25%C14, 7%C16, 1%C18) (PC:69175 CAS:68391-01-5).
11556 | 11556-111 | Tempo 20WP Premise Insecticide | 20.0000% Cyclopropanecarboxylic acid, 3-(2,2-dichloroethenyl)-2,2-dimethyl-, cyano(4-fluoro-3-phenoxyphenyl) methyl ester (PC:128831 CAS:68359-37-5).
11556 | 11556-112 | Countdown EC Premise Insecticide | 24.3000% Cyclopropanecarboxylic acid, 3-(2,2-dichloroethenyl)-2,2-dimethyl-, cyano(4-fluoro-3-phenoxyphenyl) methyl ester (PC:128831 CAS:68359-37-5).
11556 | 11556-113 | Countdown WP Premise Insecticide in Packets | 20.0000% Cyclopropanecarboxylic acid, 3-(2,2-dichloroethenyl)-2,2-dimethyl-, cyano(4-fluoro-3-phenoxyphenyl) methyl ester (PC:128831 CAS:68359-37-5).
11556 | 11556-140 | Quickbayt Disposable Fly Bait Strip | 0.1000% (Z)-9-Tricosene (PC:103201 CAS:27519-02-4) 0.5000% Imidacloprid (PC:129099 CAS:138261-41-3).
11556 | 11556-153 | Credo D | 21.4000% Imidacloprid (PC:129099 CAS:138261-41-3).
11556 | 11556-180 | Premise Guard Insecticide | 0.0200% Cyclopropanecarboxylic acid, 3-(2,2-dibromoethenyl)-2,2-dimethyl-, cyano(3-phenoxyphenyl) methyl ester, (1R-(1.alpha.(S*),3.alpha.))- (PC:97805 CAS:66841-25-6).
11773 | 11773-17 | Cornbelt Trifluralin | 43.0000% Trifluralin (PC:36101 CAS:1582-09-8).
45385 | 45385-17 | Chem-Tox Pyronox Oil Concentrate #3610 | 10.0000% 4,7-Methano-1H-isoindole-1,3(2H)-dione, 2-(2-ethylhexyl)-3a,4,7,7a-tetrahydro- (PC:57001 CAS:113-48-4) 6.0000% Piperonyl butoxide (PC:67501 CAS:51-03-6) 3.0000% Pyrethrins (PC:69001 CAS:8003-34-7).
45385 | 45385-20203 | Chem-Tox Pro! Roach Kill Powder | 99.0000% Boric acid (PC:11001 CAS:11113-50-1).
45385 | 45385-24 | Pyronox Dual 0.5 | 1.6700% 4,7-Methano-1H-isoindole-1,3(2H)-dione, 2-(2-ethylhexyl)-3a,4,7,7a-tetrahydro- (PC:57001 CAS:113-48-4) 1.0000% Piperonyl butoxide (PC:67501 CAS:51-03-6) 0.5000% Pyrethrins (PC:69001 CAS:8003-34-7).
45385 | 45385-30 | Pyronox No.5 | 1.5000% Piperonyl butoxide (PC:67501 CAS:51-03-6) 0.3000% Pyrethrins (PC:69001 CAS:8003-34-7).
45385 | 45385-43 | Chem-Tox Mal 50%-E.C. | 50.0000% Malathion (NO INERT USE) (PC:57701 CAS:121-75-5).
45385 | 45385-48 | Pyronox Oil Concentrate #1-2-3 | 2.9400% 4,7-Methano-1H-isoindole-1,3(2H)-dione, 2-(2-ethylhexyl)-3a,4,7,7a-tetrahydro- (PC:57001 CAS:113-48-4) 2.0000% Piperonyl butoxide (PC:67501 CAS:51-03-6) 1.0000% Pyrethrins (PC:69001 CAS:8003-34-7) Pests (48):.
45385 | 45385-62 | Chem-Tox Wik-Rub Insecticide Concentrate | 0.6000% Piperonyl butoxide (PC:67501 CAS:51-03-6) 0.3000% Pyrethrins (PC:69001 CAS:8003-34-7).
45385 | 45385-65 | Chem-Tox Malathion 3% | 3.0000% Malathion (NO INERT USE) (PC:57701 CAS:121-75-5).
45385 | 45385-69 | Perma-Tox Insecticide | 13.3000% Permethrin, mixed cis,trans (PC:109701 CAS:52645-53-1).
45385 | 45385-76 | Cenol Mill Spray | 2.0000% Piperonyl butoxide (PC:67501 CAS:51-03-6) 0.5000% Pyrethrins (PC:69001 CAS:8003-34-7).
45385 | 45385-8 | Chem-Tox Food Plant Spray | 5.0000% Piperonyl butoxide (PC:67501 CAS:51-03-6) 0.5000% Pyrethrins (PC:69001 CAS:8003-34-7).
45385 | 45385-94 | Iguana | 26.0000% Cypermethrin (PC:109702 CAS:52315-07-8).
45385 | 45385-98 | Cenol 0.25% Multipurpose Insecticide | 0.2500% Permethrin, mixed cis,trans (PC:109701 CAS:52645-53-1).
48302 | 48302-11 | Sea Grand Prix 500 | 45.5600% Copper(I) oxide (PC:25601 CAS:1317-39-1) 2.9100% Zinc, bis(1-hydroxy-2(1H)-pyridinethionato-O,S)-, (T-4)-, (PC:88002 CAS:13463-41-7).
49547 | 49547-16 | CLNSL | 7.5000% Sodium hypochlorite (PC:14703 CAS:7681-52-9).
51032 | 51032-14 | Micro-Sul Dusting/Wettable Sulfur | Sulfur.
52287 | 52287-1 | Turf Fertilizer with Ronstar(R) 0.95 | 0.9500% Oxadiazon (PC:109001 CAS:19666-30-9).
52484 | 52484-4 | Bioclear 2250 Antimicrobial | 25.0000% Glutaraldehyde (PC:43901 CAS:7420-89-5).
52484 | 52484-6 | Bioclear 2256 Antimicrobial | 3.0000% 1-Decanaminium, N-decyl-N,N-dimethyl-, chloride (PC:69149 CAS:7173-51-5) 3.0000% Alkyl* dimethyl benzyl ammonium chloride *(50%C14, 40%C12, 10%C16) (PC:69105 CAS:68424-85-1) 25.0000% Glutaraldehyde (PC:43901 CAS:7420-89-5).
53853 | 53853-7 | FGI-S Ready-To-Use Insecticide | 0.0250% Esfenvalerate (PC:109303 CAS:66323-04-4).
53853 | 53853-8 | FGI PY/PBO Outdoor RTU Insecticide | 1.0000% Piperonyl butoxide (PC:67501 CAS:51-03-6) 0.1000% Pyrethrins (PC:69001 CAS:8003-34-7).
57787 | 57787-30 | Proteam 1 High Tech Tabs | 5.0000% Boron sodium oxide (B4Na2O7), pentahydrate (PC:11110 CAS:12179-04-3) 91.5000% Trichloro-s-triazinetrione (PC:81405 CAS:87-90-1).
57787 | 57787-36 | Proteam Power Magic AC+ Superoxidizer | 47.6000% Calcium hypochlorite (PC:14701 CAS:7778-54-3).
58401 | 58401-13 | Stellar Three-Inch Tablets | 99.4000% Trichloro-s-triazinetrione (PC:81405 CAS:87-90-1).
59106 | 59106-9 | Bioclear 2500 Antimicrobial | 51.1000% Glutaraldehyde (PC:43901 CAS:7420-89-5).
59682 | 59682-4 | Bioflex | 0.1570% Carbamic acid, butyl-, 3-iodo-2-propynyl ester (PC:107801 CAS:55406-53-6).
59825 | 59825-5 | Warwick B675 | 99.9500% Tetraacetylethylenediamine (PC:4115 CAS:10543-57-4).
59825 | 59825-6 | Warwick AG610 | 92.0000% Tetraacetylethylenediamine (PC:4115 CAS:10543-57-4).
61468 | 61468-6 | Creosote—Manufacturing Use | 98.5000% Coal tar creosote (PC:25004 CAS:8001-58-9).
61671 | 61671-3 | For-Mite | 65.9000% Formic acid (PC:214900 CAS:64-18-6).
62719 | 62719-391 | Kerb 50-W Selective Herbicide | 50.0000% Propyzamide (PC:101701 CAS:23950-58-5).
62719 | 62719-72 | Dursban 50W in Water Soluble Packets | 50.0000% Chlorpyrifos (PC:59101 CAS:2921-88-2).
63269 | 63269-1 | TMB 471C | 25.0000% Copper sulfate pentahydrate (PC:24401 CAS:7758-99-8).
63838 | 63838-19 | Biosene Granules | 93.9000% Trichloro-s-triazinetrione (PC:81405 CAS:87-90-1).
63838 | 63838-23 | Envirobrom L | 20.0000% 2,2-Dibromo-3-nitrilopropionamide (PC:101801 CAS:10222-01-2).
63838 | 63838-31 | Bio-X | 34.6500% Trichloro-s-triazinetrione (PC:81405 CAS:87-90-1).
63838 | 63838-33 | Drycide | 65.0000% Ethanol (PC:1501 CAS:64-17-5).
63838 | 63838-35 | EP-Q10 | 1.5000% 1-Decanaminium, N-decyl-N,N-dimethyl-, chloride (PC:69149 CAS:7173-51-5) 1.5000% 1-Octanaminium, N,N-dimethyl-N-octyl-, chloride (PC:69166 CAS:5538-94-3) 4.0000% Alkyl* dimethyl benzyl ammonium chloride *(50%C14, 40%C12, 10%C16) (PC:69105 CAS:68424-85-1) 3.0000% Ammonium, decyldimethyloctyl-, chloride (PC:69165 CAS:32426-11-2).
63838 | 63838-36 | EP-Q7.5 | 1.1250% 1-Decanaminium, N-decyl-N,N-dimethyl-, chloride (PC:69149 CAS:7173-51-5) 1.1250% 1-Octanaminium, N,N-dimethyl-N-octyl-, chloride (PC:69166 CAS:5538-94-3) 3.0000% Alkyl* dimethyl benzyl ammonium chloride *(50%C14, 40%C12, 10%C16) (PC:69105 CAS:68424-85-1) 2.2500% Ammonium, decyldimethyloctyl-, chloride (PC:69165 CAS:32426-11-2).
63838 | 63838-38 | GA-50 | 50.0000% Glutaraldehyde (PC:43901 CAS:7420-89-5).
63982 | 63982-1 | SKL390 Disinfectant Cleaner | 0.1670% Alkyl* dimethyl benzyl ammonium chloride *(60%C14, 30%C16, 5%C18, 5%C12) (PC:69104 CAS:53516-76-0) 0.1670% Alkyl* dimethyl ethylbenzyl ammonium chloride *(68%C12, 32%C14) (PC:69154 CAS:85409-23-0).
67071 | 67071-108 | Acticide BWL 10-F | 9.0000% 1,2-Benzisothiazolin-3-one (PC:98901 CAS:2634-33-5).
67867 | 67867-5 | Buggspray Insect Repellent for Biting Flies | 2.5000% 2,5-Pyridinedicarboxylic acid, dipropyl ester (PC:47201 CAS:136-45-8) 5.0000% 4,7-Methano-1H-isoindole-1,3(2H)-dione, 2-(2-ethylhexyl)-3a,4,7,7a-tetrahydro- (PC:57001 CAS:113-48-4) 25.0000% m-Toluamide, N,N-diethyl- (PC:80301 CAS:84603-69-0).
68539 | 68539-16 | Agricure | 85.0000% Carbonic acid, monopotassium salt (PC:73508 CAS:298-14-6).
68539 | 68539-19 | Botry-Zen WP | 45.0000% Ulocladium oudemansii (U3 Strain) (PC:102111 CAS:Unknown).
68889 | 68889-1 | Hawaii Fly Bait Brand Olive Fruit Fly | 0.3000% Spinosad (PC:110003 CAS:168316-95-8).
69340 | 69340-5 | Eogas AN1005 | 90.0000% Ethylene oxide (PC:42301 CAS:75-21-8).
69340 | 69340-9 | AN7514 | 97.0000% Ethylene oxide (PC:42301 CAS:75-21-8).
69526 | 69526-10 | PC Turf And Ornamentals | 98.0000% Mineral oil—includes paraffin oil from 063503 (PC:63502 CAS:64742-65-0).
69526 | 69526-11 | PC Herbicide Concentrate | 0.3400% Acetic acid, (2,4-dichlorophenoxy)-, compd. with N-methylmethanamine (1:1) (PC:30019 CAS:2008-39-1) 0.0420% Dimethylamine 3,6-dichloro-o-anisate (PC:29802 CAS:2300-66-5) 0.2200% Mecoprop-P-dimethylammonium (PC:31520 CAS:66423-09-4).
69526 | 69526-12 | PC RTU Herbicide | 0.0340% Acetic acid, (2,4-dichlorophenoxy)-, compd. with N-methylmethanamine (1:1) (PC:30019 CAS:2008-39-1) 0.0042% Dimethylamine 3,6-dichloro-o-anisate (PC:29802 CAS:2300-66-5) 0.0220% Mecoprop-P-dimethylammonium (PC:31520 CAS:66423-09-4).
69526 | 69526-16 | PC Herbicide RTU Plus | 0.0570% Acetic acid, (2,4-dichlorophenoxy)-, compd. with N-methylmethanamine (1:1) (PC:30019 CAS:2008-39-1) 0.0070% Dimethylamine 3,6-dichloro-o-anisate (PC:29802 CAS:2300-66-5) 0.0370% Mecoprop-P-dimethylammonium (PC:31520 CAS:66423-09-4).
69681 | 69681-28 | Clor Mor Cal-Shock SWB | 47.6000% Calcium hypochlorite (PC:14701 CAS:7778-54-3).
70062 | 70062-4 | Babolna Bio Hydroprene Technical | 95.0000% 2,4-Dodecadienoic acid, 3,7,11-trimethyl-, ethyl ester, (S-(E,E))- (PC:128966 CAS:65733-18-8).
70299 | 70299-10 | Greenclean Tablets | 42.5000% Sodium percarbonate (PC:128860 CAS:15630-89-4).
70299 | 70299-24 | Axxe Ready to Use Herbicide | 5.0000% Nonanoic acid, ammonium salt (PC:31802 CAS:63718-65-0).
70299 | 70299-30 | Nomas | 5.0000% Capric acid (PC:128955 CAS:334-48-5) 5.0000% Caprylic acid (PC:128919 CAS:124-07-2) 5.0000% Nonanoic acid (PC:217500 CAS:112-05-0).
70506 | 70506-255 | Harrier WDG | 85.0000% Oryzalin (PC:104201 CAS:19044-88-3).
70644 | 70644-4 | Nutrol LC | 35.0000% Potassium phosphate, monobasic (PC:76413 CAS:7778-77-0).
70909 | 70909-5 | Conceal Candle | 3.5000% 3,7-Dimethyl-1,6-octadien-3-ol (PC:128838 CAS:78-70-6).
80286 | 80286-10 | ISCA Myristyl Alcohol MP | 100.0000% Myristyl alcohol (PC:1510 CAS:112-72-1).
80286 | 80286-14 | ISCA CLM MP | 66.5000% Citrus leafminer lepidoptera pheromone (PC:29000 CAS:888042-38-4).
80286 | 80286-16 | Splat Tuta | 0.3000% 3,8,11-Tetradecatrien-1-ol, acetate, (3E,8Z,11Z)- (PC:11472 CAS:163041-94-9).
80286 | 80286-17 | ISCA Tuta MP | 96.3100% 3,8,11-Tetradecatrien-1-ol, acetate, (3E,8Z,11Z)- (PC:11472 CAS:163041-94-9).
80286 | 80286-24 | ISCA Lobesia MP | 77.6400% (E,Z)-7,9-Dodecadienyl acetate (PC:11471 CAS:55774-32-8).
80286 | 80286-25 | Splat Lobesia | 3.6000% (E,Z)-7,9-Dodecadienyl acetate (PC:11471 CAS:55774-32-8).
80286 | 80286-26 | Hook RPW | 3.0000% Cypermethrin (PC:109702 CAS:52315-07-8).
80286 | 80286-27 | ISCA FAW MP | 11.4400% (Z)-11-Hexadecenyl acetate (PC:129071 CAS:60037-58-3) 81.0000% 9-Tetradecen-1-ol, acetate, (9Z) (PC:129109 CAS:16725-53-4) 2.8590% Looplure (PC:11474 CAS:14959-86-5).
80286 | 80286-29 | Splat FAW Gl4 | 0.4800% (Z)-11-Hexadecenyl acetate (PC:129071 CAS:60037-58-3) 3.4000% 9-Tetradecen-1-ol, acetate, (9Z) (PC:129109 CAS:16725-53-4).
80286 | 80286-32 | MCH Bubble CAP | 97.9000% 3-Methyl-2-cyclohexen-1-one (PC:219700 CAS:1193-18-6).
80286 | 80286-9 | ISCA Lauryl Alcohol MP | 98.2000% Dodecyl alcohol (PC:1509 CAS:112-53-8).
82552 | 82552-2 | Concrobium Mold Control (MUP) | 0.9500% Sodium carbonate (PC:73506 CAS:497-19-8).
82669 | 82669-2 | Bio-UD-8 Spray | Methyl nonyl ketone 7.75.
82940 | 82940-2 | Elicitore | 12.0000% Organic acids derived from leonardite (PC:21818 CAS:Unknown).
82940 | 82940-3 | Pm-4300organic Acids | 18.5000% Organic acids derived from leonardite (PC:21818 CAS:Unknown).
84930 | 84930-23 | ARC-Metolazine Herbicide | 33.1000% Atrazine (PC:80803 CAS:1912-24-9) 26.1000% Metolachlor (PC:108801 CAS:51218-45-2).
85341 | 85341-3 | Revere Antimicrobial Copper | 96.2000% Copper as elemental (PC:22501 CAS:7440-50-8).
85493 | 85493-1 | Browseban EC—Animal Repellent | Capsaicin.
85678 | 85678-28 | Captan Technical II | 95.5000% Captan (PC:81301 CAS:133-06-2).
86182 | 86182-4 | STK-53 | 10.0000% Tea tree oil (PC:28853 CAS:68647-73-4).
86330 | 86330-13 | Sunspray Ultra-Fine Year-Round Pesticidal Oil | 98.8000% Aliphatic petroleum solvent (PC:63503 CAS:64742-89-8).
86330 | 86330-15 | Sunspray 6E Western | 98.8000% Aliphatic petroleum solvent (PC:63503 CAS:64742-89-8).
86330 | 86330-2 | Sunspray 7N | 100.0000% Aliphatic petroleum solvent (PC:63503 CAS:64742-89-8).
86330 | 86330-3 | Sunspray 7E | 98.8000% Aliphatic petroleum solvent (PC:63503 CAS:64742-89-8).
86330 | 86330-4 | Sunspray 11E | 98.8000% Aliphatic petroleum solvent (PC:63503 CAS:64742-89-8).
86330 | 86330-6 | Sunspray 6E | 98.8000% Aliphatic petroleum solvent (PC:63503 CAS:64742-89-8).
86330 | 86330-8 | Sunspray 9E | 98.8000% Aliphatic petroleum solvent (PC:63503 CAS:64742-89-8).
86330 | 86330-9 | Sunspray 9N | 100.0000% Aliphatic petroleum solvent (PC:63503 CAS:64742-89-8).
87193 | 87193-1 | Formula 691 | 0.3000% Cytokinin (as kinetin) (PC:116801 CAS:50868-58-1) 0.2500% Gibberellic acid (PC:43801 CAS:88-82-4) 0.1500% Indolebutyric acid (PC:46701 CAS:133-32-4).
87656 | 87656-4 | Bio-Spear Sanitizing Spray | 0.9000% 1-Decanaminium, N-decyl-N,N-dimethyl-, chloride (PC:69149 CAS:7173-51-5) 0.5400% 1-Octadecanaminium, N,N-dimethyl-N-(3-(trimethoxysilyl)propyl)-, chloride (PC:107401 CAS:27668-52-6).
87663 | 87663-10 | Emerion 8200 C8910 FA Dusting Powder | 2.0000% Capric acid (PC:128955 CAS:334-48-5) 10.0000% Caprylic acid (PC:128919 CAS:124-07-2) 3.0000% Nonanoic acid (PC:217500 CAS:112-05-0).
87663 | 87663-3 | Emerion 7020 Concentrate | 40.0000% Nonanoic acid, ammonium salt (PC:31802 CAS:63718-65-0).
87845 | 87845-10 | Colossal Pro Fungicide | 29.7300% 1H-1,2,4-Triazole, 1-((2-(2,4-dichlorophenyl)-4-propyl-1,3-dioxolan-2-yl)methyl)- (PC:122101 CAS:60207-90-1) 19.6200% 1H-1,2,4-Triazole-1-ethanol, .alpha.-(2-(4-chlorophenyl)ethyl)-.alpha.-(1,1-dimethylethyl)-, (+-), (PC:128997 CAS:107534-96-3).
88089 | 88089-1 | Sanogiene | 0.4000% Chitosan (PC:128930 CAS:9012-76-4) 22.5800% Hydantoin, 1,3-bis(hydroxymethyl)-5,5-dimethyl- (PC:115501 CAS:6440-58-0) 21.4200% Hydantoin, 1-(hydroxymethyl)-5,5-dimethyl- (PC:115502 CAS:27636-82-4).
88148 | 88148-2 | Ethylene | 98.5000% Ethylene (PC:41901 CAS:74-85-1).
89110 | 89110-34 | Bionix BCD98 | 98.0000% Hydantoin, 1(or 3)-bromo-3(or 1)-chloro-5,5-dimethyl- (PC:6333 CAS:32718-18-6).
89118 | 89118-3 | VCP-06 1.65 SC Fungicide | 18.4000% Azoxystrobin (PC:128810 CAS:131860-33-8).
89118 | 89118-4 | VCP-07 | 10.9000% Azoxystrobin (PC:128810 CAS:131860-33-8) 5.8000% Bifenthrin (PC:128825 CAS:83322-02-5).
91040 | 91040-2 | Waterworks Sulfosulf 75% WDG Herbicide | 75.0000% Sulfosulfuron (PC:85601 CAS:141776-32-1).
91069 | 91069-2 | Roach E. Reaper | 100.0000% Boric acid (PC:11001 CAS:11113-50-1).
91209 | 91209-3 | Terra San | 5.4000% Ethaneperoxoic acid (PC:63201 CAS:7722-84-1) 27.0000% Hydrogen peroxide (PC:595 CAS:7722-84-1).
91234 | 91234-194 | A381.02 | 70.8700% Acetochlor (PC:121601 CAS:34256-82-1).
91374 | 91374-2 | Horticol 75 | 100.0000% Aliphatic petroleum solvent (PC:63503 CAS:64742-89-8).
92068 | 92068-3 | MVX Antimicrobial Coat | 0.1000% Silver (PC:72501 CAS:7440-22-4).
92120 | 92120-9 | Hazel 310.1 | 0.1000% Cyclopropene,1-methyl- (PC:224459 CAS:3100-04-7).
92647 | 92647-25 | Tigris Clop + Flumet | 60.0000% 2-Pyridinecarboxylic acid, 3,6-dichloro-, potassium salt (PC:117423 CAS:58509-83-4) 18.5000% Flumetsulam (PC:129016 CAS:98967-40-9).
93051 | 93051-7 | Rightline Sulfosulf 75 WDG Herbicide | 75.0000% Sulfosulfuron (PC:85601 CAS:141776-32-1).
93051 | 93051-9 | Rightline Sulfosulf T&O | 75.0000% Sulfosulfuron (PC:85601 CAS:141776-32-1).
93507 | 93507-1 | Bio-Tape 48 | 95.0000% Diiodomethyl p-tolyl sulfone (PC:101002 CAS:20018-09-1).
93569 | 93569-14 | Genagri Paraquat MUP | 45.5000% Paraquat dichloride (PC:61601 CAS:39312-80-6).
93594 | 93594-1 | GTI Shield ZP50 | 50.0000% Zinc, bis(1-hydroxy-2(1H)-pyridinethionato-O,S)-, (T-4)-, (PC:88002 CAS:13463-41-7).
93908 | 93908-3 | Envirolyte Plus | Hypochlorous Acid .046.
94418 | 94418-1 | Xitrexx | 1.0000% 1-Octadecanaminium,N,N-dimethyl-N-[3-(trihydroxysilyl)propyl],chloride (PC:107403 CAS:199111-50-7).
94865 | 94865-2 | Paracetic Acid Sanitizer | 5.3000% Ethaneperoxoic acid (PC:63201 CAS:7722-84-1) 23.0000% Hydrogen peroxide (PC:595 CAS:7722-84-1).
95393 | 95393-1 | Quatrus Q-428 | 80.0000% Alkyl* dimethyl benzyl ammonium chloride *(50%C14, 40%C12, 10%C16) (PC:69105 CAS:68424-85-1).
95393 | 95393-10 | Quatrus Q-425 | 50.0000% Alkyl* dimethyl benzyl ammonium chloride *(50%C14, 40%C12, 10%C16) (PC:69105 CAS:68424-85-1).
95393 | 95393-11 | Quatrus Q-445 | 50.0000% 1-Decanaminium, N-decyl-N,N-dimethyl-, chloride (PC:69149 CAS:7173-51-5).
95393 | 95393-12 | Quatrus Q-465 | 50.0000% Alkyl* dimethyl benzyl ammonium chloride *(60%C14, 30%C16, 5%C18, 5%C12) (PC:69104 CAS:53516-76-0).
95393 | 95393-13 | Quatrus Q-468 | 80.0000% Alkyl* dimethyl benzyl ammonium chloride *(60%C14, 30%C16, 5%C18, 5%C12) (PC:69104 CAS:53516-76-0).
95393 | 95393-15 | Quatrus Q-2125M-80 | 40.0000% Alkyl* dimethyl benzyl ammonium chloride *(60%C12, 30%C14, 5%C16, 5%C18) (PC:79106 CAS:68391-01-5) 40.0000% Alkyl* dimethyl ethylbenzyl ammonium chloride *(68%C12, 32%C14) (PC:69154 CAS:85409-23-0).
95393 | 95393-16 | Quatrus Q-2125M-50 | 25.0000% Alkyl* dimethyl benzyl ammonium chloride *(60%C12, 30%C14, 5%C16, 5%C18) (PC:79106 CAS:68391-01-5) 25.0000% Alkyl* dimethyl ethylbenzyl ammonium chloride *(68%C12, 32%C14) (PC:69154 CAS:85409-23-0).
95393 | 95393-17 | Quatrus Q-2125M-50NA | 25.0000% Alkyl* dimethyl benzyl ammonium chloride *(60%C14, 30%C16, 5%C18, 5%C12) (PC:69104 CAS:53516-76-0) 25.0000% Alkyl* dimethyl ethylbenzyl ammonium chloride *(68%C12, 32%C14) (PC:69154 CAS:85409-23-0).
95393 | 95393-2 | Quatrus Q-448 | 80.0000% 1-Decanaminium, N-decyl-N,N-dimethyl-, chloride (PC:69149 CAS:7173-51-5).
95393 | 95393-3 | Quatrus Q-15 | 7.5000% 1-Decanaminium, N-decyl-N,N-dimethyl-, chloride (PC:69149 CAS:7173-51-5) 7.5000% 1-Octanaminium, N,N-dimethyl-N-octyl-, chloride (PC:69166 CAS:5538-94-3) 20.0000% Alkyl* dimethyl 3,4-dichlorobenzyl ammonium chloride *(50%C14, 40%C12, 10%C16) (PC:169101 CAS:68989-02-6) 15.0000% Ammonium, decyldimethyloctyl-, chloride (PC:69165 CAS:32426-11-2).
95393 | 95393-4 | Quatrus Q-050 | 12.5000% 1-Decanaminium, N-decyl-N,N-dimethyl-, chloride (PC:69149 CAS:7173-51-5) 12.5000% 1-Octanaminium, N,N-dimethyl-N-octyl-, chloride (PC:69166 CAS:5538-94-3) 25.0000% Ammonium, decyldimethyloctyl-, chloride (PC:69165 CAS:32426-11-2).
95393 | 95393-5 | Quatrus Q-125 | NO PEST.
95393 | 95393-6 | Quatrus Q-405 | NO PEST.
95393 | 95393-7 | Quatrus Q-24 | 12.0000% 1-Decanaminium, N-decyl-N,N-dimethyl-, chloride (PC:69149 CAS:7173-51-5) 12.0000% 1-Octanaminium, N,N-dimethyl-N-octyl-, chloride (PC:69166 CAS:5538-94-3) 32.0000% Alkyl* dimethyl benzyl ammonium chloride *(50%C14, 40%C12, 10%C16) (PC:69105 CAS:68424-85-1) 24.0000% Ammonium, decyldimethyloctyl-, chloride (PC:69165 CAS:32426-11-2).
95393 | 95393-8 | Quatrus Q-080 | 20.0000% 1-Decanaminium, N-decyl-N,N-dimethyl-, chloride (PC:69149 CAS:7173-51-5) 20.0000% 1-Octanaminium, N,N-dimethyl-N-octyl-, chloride (PC:69166 CAS:5538-94-3) 40.0000% Ammonium, decyldimethyloctyl-, chloride (PC:69165 CAS:32426-11-2).
95393 | 95393-9 | Quatrus Q-408 | 48.0000% 1-Decanaminium, N-decyl-N,N-dimethyl-, chloride (PC:69149 CAS:7173-51-5) 32.0000% Alkyl* dimethyl benzyl ammonium chloride *(50%C14, 40%C12, 10%C16) (PC:69105 CAS:68424-85-1).
96041 | 96041-3 | Sani-Spray | 0.1540% Alkyl* dimethyl benzyl ammonium chloride *(60%C14, 30%C16, 5%C18, 5%C12) (PC:69104 CAS:53516-76-0) 0.1540% Alkyl* dimethyl ethylbenzyl ammonium chloride *(68%C12, 32%C14) (PC:69154 CAS:85409-23-0) 21.0000% Isopropanol (PC:47501 CAS:67-63-0).
97956 | 97956-1 | WSK Disinfecting Wipes | Alkyl* dimethyl benzyl ammonium chloride *(50%C14, 40%C12, 10%C16) .388.
98022 | 98022-1 | Fresh | 6.0000% Chitosan (PC:128930 CAS:9012-76-4).
100 | AL120003 | Gramoxone SL 2.0 | Paraquat dichloride.
69681 | AL120006 | Avipel (Dry) Corn Seed Treatment | Anthraquinone.
352 | AL930004 | Dimilin 25W for Cotton/Soybean | Diflubenzuron.
279 | AR070008 | Spartan 4F | 39.6000% Sulfentrazone (PC:129081 CAS:122836-35-5).
100 | AR120005 | Gramoxone SL 2.0 | Paraquat dichloride.
66222 | AR120014 | Diuron 4L | 40.0000% Diuron (PC:35505 CAS:330-54-1).
69681 | AR130004 | Avipel (Dry) Corn Seed Treatment | Anthraquinone.
62719 | AR130012 | Lorsban Advanced | Diflubenzuron.
264 | AR160002 | Sivanto 200 SL | 17.0900% Flupyradifurone (PC:122304 CAS:951659-40-8).
56 | AZ110003 | Bait Block Rodentiicde with Peanut Butter Flavorizer | Diphacinone.
100 | AZ120005 | Gramoxone SL 2.0 | Paraquat dichloride.
62719 | CA080014 | Lorsban Advanced | Chlopyrifos.
69526 | CA100001 | Petro-Canada Purespray Green | Chlorpyrifos.
73049 | CA100012 | Dipel DF Biological Insecticide | 54.0000% Bacillus thuringiensis Subsp. Kurstaki, Strain ABTS-351,fermentaion solids, spores, and insecticidal toxins (PC:6522 CAS:68038-71-1).
71049 | CA140006 | Beleaf 50SG Insecticide | 50.0000% Flonicamid (PC:128016 CAS:158062-67-0).
71771 | CA920002 | Promalin Plant Growth Regulator | 1.8000% Adenine, N-benzyl- (PC:116901 CAS:1214-39-7) 1.8000% Gibberellin A4 mixt. with Gibberellin A7 (PC:116902 CAS:8030-53-3).
352 | CA970009 | Dimilin 25W for Cotton/Soybean | Diflubenzuron.
352 | CA970019 | Dimilin 25W for Cotton/Soybean | Diflubenzuron.
352 | CA970021 | Dimilin 25W for Cotton/Soybean | Diflubenzuron.
264 | CA980023 | Gustafson Captan 400 | Captan.
62719 | CO100004 | Lorsban Advanced | Chlorpyrifos.
73049 | DE090002 | Vectobac WDG | 37.4000% Bacillus thuringiensis subspecies israelensis strain AM 65-52 solids, spores and insecticidal toxins (PC:69162 CAS:68038-71-1).
69681 | DE120001 | Avipel (Dry) Corn Seed Treatment | Anthraquinone.
66222 | DE140001 | Metribuzin 75WG | 75.0000% Metribuzin (PC:101101 CAS:21087-64-9).
279 | DE150003 | F6482 45DF Herbicide | 27.0000% Metribuzin (PC:101101 CAS:21087-64-9) 18.0000% Sulfentrazone (PC:129081 CAS:122836-35-5).
352 | FL010010 | Micromite 25WS | Diflubenzuron.
62719 | FL040005 | Lorsban* 75WG | Chlorpyrifos.
62719 | FL090002 | Lorsban Advanced | Chlorpyrifos.
352 | FL090010 | Micromite 80WG | 80.0000% Diflubenzuron (PC:108201 CAS:35367-38-5).
100 | FL120004 | Gramoxone SL 2.0 | Paraquat dichloride.
7969 | FL160001 | Poast Herbicide | 18.0000% Sethoxydim (PC:121001 CAS:74051-80-2).
352 | FL910014 | Dimilin 25W for Cotton/Soybean | Paraquat dichloride.
352 | GA060002 | Dimilin 2L | Diflubenzuron.
352 | GA060007 | Dimilin 2L | Diflubenzuron.
59639 | GA080010 | Knack Insect Growth Regulator | 11.2300% Pyriproxyfen (PC:129032 CAS:95737-68-1).
62719 | GA100001 | Lorsban Advanced | Chlorpyrifos.
66222 | GA120001 | Diuron 4L | 40.0000% Diuron (PC:35505 CAS:330-54-1).
62719 | GA180001 | Lorsban Advanced | Chlorpyrifos.
279 | IA110001 | Spartan 4F | 39.6000% Sulfentrazone (PC:129081 CAS:122836-35-5).
69681 | IA170004 | Avipel (Dry) Corn Seed Treatment | Anthraquinone.
352 | ID000013 | Dimilin 2L | 22.0000% Diflubenzuron (PC:108201 CAS:35367-38-5).
62719 | ID030006 | Lorsban 50W Insecticide in Water Soluble Packets | Chlorpyrifos.
62719 | ID090002 | Lorsban Advanced | Chlorpyrifos.
62719 | ID090003 | Lorsban Advanced | Chlorpyrifos.
62719 | ID090004 | Lorsban Advanced | Chlorpyrifos.
100 | ID120002 | Gramoxone SL 2.0 | Paraquat dichloride.
66222 | ID130004 | Fanfare 2 ES Insecticide/Miticide | Bifenthrin.
69681 | ID130007 | Avipel (Dry) Corn Seed Treatment | Anthraquinone.
279 | ID140002 | F6482 45DF Herbicide | 27.0000% Metribuzin (PC:101101 CAS:21087-64-9) 18.0000% Sulfentrazone (PC:129081 CAS:122836-35-5).
279 | IL140001 | Authority Elite | S-Metolachlor Sulfentrazone.
279 | KS140001 | Authority MTZ DF | Metribuzin Sulfentrazone.
62719 | KY090030 | Lorsban Advanced | Chlorpyrifos.
352 | LA080001 | Dimilin 25W | Transferred (2021-06-09) New product: 70506-526.
62719 | LA090002 | Lorsban Advanced | Chlorpyrifos.
66222 | LA110008 | Parallel PCS | 86.4000% Metolachlor (PC:108801 CAS:51218-45-2).
69681 | LA120007 | Avipel (Dry) Corn Seed Treatment | Anthraquinone.
66222 | LA120008 | Diuron 4L | 40.0000% Diuron (PC:35505 CAS:330-54-1).
279 | LA120014 | Spartan 4F | 39.6000% Sulfentrazone (PC:129081 CAS:122836-35-5).
279 | LA120015 | F6482 45DF Herbicide | 27.0000% Metribuzin (PC:101101 CAS:21087-64-9) 18.0000% Sulfentrazone (PC:129081 CAS:122836-35-5).
279 | LA140004 | F9016-2 DF Herbicide | 3.8800% Chlorimuron (PC:128901 CAS:90982-32-4) 62.1200% Sulfentrazone (PC:129081 CAS:122836-35-5).
62719 | LA150004 | Lorsban Advanced | Chlorpyrifos.
69681 | MD120001 | Avipel (Dry) Corn Seed Treatment | Anthraquinone.
279 | MD150002 | F6482 45DF Herbicide | 27.0000% Metribuzin (PC:101101 CAS:21087-64-9) 18.0000% Sulfentrazone (PC:129081 CAS:122836-35-5).
69681 | ME120002 | Avipel (Dry) Corn Seed Treatment | Anthraquinone.
62719 | MI110006 | Lorsban 15G | Chlorpyrifos.
279 | MN100003 | Spartan Charge Herbicide | Sulfentrazone Carfentrazone-ethyl.
279 | MN150001 | F7583-3 Herbicide | 68.2500% S-Metolachlor (PC:108800 CAS:87392-12-9) 7.5500% Sulfentrazone (PC:129081 CAS:122836-35-5).
279 | MN220006 | F7127 SE Herbicide | 3.5300% Carfentrazone-ethyl (PC:128712 CAS:128639-02-1) 31.7700% Sulfentrazone (PC:129081 CAS:122836-35-5).
69681 | MO160004 | Avipel (Dry) Corn Seed Treatment | Anthraquinone.
62719 | MS080007 | Lorsban Advanced | Chlorpyrifos.
69681 | MS120010 | Avipel (Dry) Corn Seed Treatment | Anthraquinone.
66222 | MS120011 | Diuron 4L | 40.0000% Diuron (PC:35505 CAS:330-54-1).
279 | MS130004 | Spartan Charge Herbicide | Sulfentrazone Carfentrazone-ethyl.
352 | MS870002 | Dimilin 25W for Cotton/Soybean | Paraquat dichloride.
7969 | MT120003 | Liberty 280 SL Herbicide | 24.5000% Butanoic acid, 2-amino-4-(hydroxymethylphosphinyl)-, monoammonium salt (PC:128850 CAS:77182-82-2).
62719 | NC090001 | Lorsban Advanced | Chlorpyrifos.
62719 | NC090004 | Lorsban Advanced | Chlorpyrifos.
777 | NC120008 | Dow Agrosciences/Profume Gas Fumigant | Sulfuryl flouride.
7969 | NC150006 | Armezon Herbicide | 29.7000% Topramezone (PC:123009 CAS:210631-68-8).
73049 | ND010004 | Dipel ES | 23.7000% Bacillus thuringiensis Subsp. Kurstaki, Strain ABTS-351,fermentaion solids, spores, and insecticidal toxins (PC:6522 CAS:68038-71-1).
69681 | ND130001 | Avipel (Dry) Corn Seed Treatment | Anthraquinone.
7969 | NE070001 | Status Herbicide | 17.1000% 3-Pyridinecarboxylic acid, 2-{1-{{{(3,5-difluorophenyl)amino}carbonyl}hydrozono}ethyl}-, monosodium salt (PC:5107 CAS:109293-98-3).
279 | NE140001 | F6482 45DF Herbicide | 27.0000% Metribuzin (PC:101101 CAS:21087-64-9) 18.0000% Sulfentrazone (PC:129081 CAS:122836-35-5).
264 | NE160001 | Sivanto 200 SL | 17.0900% Flupyradifurone (PC:122304 CAS:951659-40-8).
69681 | NH120001 | Avipel (Dry) Corn Seed Treatment | Anthraquinone.
69681 | NJ130001 | Avipel (Dry) Corn Seed Treatment | Anthraquinone.
66222 | NJ140003 | Metribuzin 75WG | 75.0000% Metribuzin (PC:101101 CAS:21087-64-9).
66222 | NV060009 | Rimon 0.83 EC | Novaluron.
100 | NV120001 | Gramoxone SL 2.0 | Paraquat dichloride.
352 | NV940003 | Dimilin 25W for Cotton/Soybean | Paraquat dichloride.
8660 | NY120004 | AB Fluridone Aquatic Herbicide | 41.7000% Fluridone (PC:112900 CAS:59756-60-4).
69681 | NY170006 | Avipel Hopper Box (Dry) Corn Seed Treatment | Anthraquinone.
279 | OH130004 | Spartan Charge Herbicide | Sulfentrazone Carfentrazone-ethyl.
279 | OH140002 | Aim EC | 22.3000% Carfentrazone-ethyl (PC:128712 CAS:128639-02-1).
69681 | OH170001 | Avipel Hopper Box (Dry) Corn Seed Treatment | Sulfentrazone Carfentrazone-ethyl.
100 | OH190001 | Dual Magnum Herbicide | 83.7000% S-Metolachlor (PC:108800 CAS:87392-12-9).
8033 | OK110002 | F5688 11% ME Insecticide Termiticide | Boscalid (128008/188425-85-6)—(70%).
352 | OK890003 | Dimilin 25W for Cotton/Soybean | Saflufenacil (118203/372137-35-4)—(29.74%).
264 | OR050025 | Admire Pro Systemic Protectant | Sulfentrazone (129081/122836-35-5)—(39.6%).
239 | OR060008 | Prowl H2O Herbicide | Pendimethalin.
62719 | OR090007 | Lorsban Advanced | Chlorpyrifos.
62719 | OR090008 | Lorsban Advanced | Chlorpyrifos.
62719 | OR090009 | Lorsban Advanced | Chlorpyrifos.
62719 | OR090010 | Lorsban Advanced | Chlorpyrifos.
62719 | OR090011 | Lorsban Advanced | Chlorpyrifos.
62719 | OR090012 | Lorsban Advanced | Chlorpyrifos.
62719 | OR090013 | Lorsban Advanced | Chlorpyrifos.
66222 | PA130003 | Metribuzin 75WG | Metribuzin.
264 | SC040002 | Hoelon 3EC | Diclofop.
352 | SC060001 | Dimilin 2L | Diflubenzuron.
100 | SC120003 | Gramoxone SL 2.0 | Paraquat dichloride.
7969 | SC170001 | Poast Herbicide | Sethoxydim.
7969 | SD090007 | Emerald Fungicide | Boscalid.
279 | TN050002 | Spartan 4F | Sulfentrazone.
279 | TN070004 | Spartan 4F | Sulfentrazone.
279 | TN090003 | Authority MTZ DF Herbicide | Metribuzin Sulfentrazone.
279 | TN100001 | Spartan Charge | Sulfentrazone Carfentrazone-ethyl.
279 | TN140001 | Spartan Charge Herbicide | Sulfentrazone Carfentrazone-ethyl.
73049 | TX020001 | Dipel ES | Bacillus thuringiensis subspecies tenebrionis, strain NB-176 (006524/68038-71-1)—(10%).
352 | TX110007 | Micromite 80WG | Diflubenzuron.
279 | TX120011 | Spartan 4F | Sulfentrazone.
279 | TX120012 | F6482 45DF Herbicide | Metribuzin Sulfentrazone.
69681 | TX130002 | Avipel (Dry) Corn Seed Treatment | Anthraquinone.
100 | TX130009 | Gramoxone SL 2.0 | Paraquat dichloride.
62719 | TX180004 | Lorsban Advanced | Chlorpyrifos.
228 | TX200001 | NUP-17063 Herbicide | 2, 4-DP-p, 2-ethylhexyl ester.
228 | TX200004 | Freefall SC Cotton Defoliant | Thidiazuron.
228 | TX210001 | NUP-17063 Herbicide | 2, 4-DP-p, 2-ethylhexyl ester.
69681 | UT180005 | Avipel (Dry) Corn Seed Treatment | Anthraquinone.
87845 | UT200001 | Oxamyl 24 Insecticide/Nematicide | Oxamyl.
62719 | VA090001 | Lorsban Advanced | Chlorpyrifos.
279 | VA150005 | F6482 45DF Herbicide | Metribuzin Sulfentrazone.
69681 | VT120002 | Avipel (Dry) Corn Seed Treatment | Anthraquinone (122701/84-65-1)—(50%).
352 | WA020008 | Dimilin 2L | Diflubenzuron.
73049 | WA040029 | Novodor Biological Insecticide Flowable Concentrate | Bacillus thuringiensis subspecies tenebrionis.
264 | WA050013 | Admire Pro Systemic Protectant | Imidacloprid.
62719 | WA090002 | Lorsban Advanced | Chlorpyrifos.
62719 | WA090004 | Lorsban Advanced | Chlorpyrifos.
62719 | WA090010 | Lorsban Advanced | Chlorpyrifos.
62719 | WA090011 | Lorsban Advanced | Chlorpyrifos.
62719 | WA090012 | Lorsban Advanced | Chlorpyrifos.
10163 | WA170003 | Sonalan HFP | Ethalfluralin (113101/55283-68-6)—(35.4%).
10163 | WA170004 | Treflan TR-10 | Trifluralin (036101/1582-09-8)—(10%).
279 | WI130005 | Spartan 4F | Sulfentrazone (129081/122836-35-5)—(39.6%).
62719 | WI130006 | Lorsban 15G | Chlorpyrifos.
100 | WI170001 | Reflex Herbicide | Sodium salt of fomesafen (123802/108731-70-0)—(22.8%).
69681 | WI190003 | Avipel | Anthraquinone (122701/84-65-1)—(50%).
66222 | WV130001 | Metribuzin 75WG | Metribuzin (101101/21087-64-9)—(75%).
100 | WY120004 | Gramoxone SL 2.0 | Paraquat dichloride (061601/1910-42-5)—(30.1%).
279 | WY140001 | F6482 45DF Herbicide | Metribuzin (101101/21087-64-9)—(27%), Sulfentrazone (129081/122836-35-5)—(18%).

Table 2 of this unit includes the names and addresses of record for all registrants of the products in Table 1 of this unit, in sequence by EPA company number. This number corresponds to the first part of the EPA registration numbers of the products listed in this unit.

Table 2—Registrants Requesting Voluntary Cancellation
EPA company No. | Company name and address
56 | J.T. Eaton & Co., Inc., 1393 E Highland Road, Twinsburg, OH 44087.
100 | Syngenta Crop Protection, LLC, 410 Swing Road, Greensboro, NC 27419.
239 | The Scotts Company, P.O. Box 190, Marysville, OH 43040.
264 | Bayer Crop Science, LP, 800 N Lindbergh Blvd, St. Louis, MO 63141.
270 | Farnam Companies, Inc., 1501 E Woodfield Road., Suite 200 West, Schaumburg, IL 60173.
352 | Corteva Agriscience, LLC, 9330 Zionsville Road, Indianapolis, IN 46268.
464 | MC (US) 3, LLC, 1652 Larkin Center Drive, Midland, MI 48642.
499 | BASF Corporation, P.O. Box 13528, Research Triangle Park, NC 27709-3528.
538 | The Scotts Company, P.O. Box 190, Marysville, OH 43040.
577 | The Sherwin-Williams Company, 101 Prospect Ave, Cleveland, OH 44115.
675 | Reckitt Benckiser, LLC, 399 Interpace Parkway, Parsippany, NJ 07054-0225.
777 | Reckitt Benckiser, LLC, 399 Interpace Parkway, Parsippany, NJ 07054-0225.
961 | Lebanon Seaboard Corporation, 1600 East Cumberland Street, Lebanon, PA 17042.
1022 | IBC Manufacturing Co., 416 East Brooks Road, Memphis, TN 381092931.
1258 | Innovative Water Care, LLC, 1300 Altura Road, Suite 125, Fort Mill, SC 29708.
2382 | Virbac Ah, Inc., P.O. Box 162059, Fort Worth, TX 76161.
2724 | Wellmark International, 1501 E Woodfield Road, Suite 200 West, Schaumburg, IL 60173.
2749 | Aceto Life Sciences, LLC, 4 Tri Harbor Court, Port Washington, NY 11050.
2935 | Wilbur-Ellis Company, LLC, 2903 S Cedar Ave., Fresno, CA 93725.
4972 | Protexall Products, Inc., 73356 Highway 41, Pearl River, LA 70452.
5383 | Troy Corporation, 8 Vreeland Road, Florham Park, NJ 07932.
7048 | Edmar Chemical Company, P.O. Box 598, Chagrin Falls, OH 44022-0598.
7319 | Denka Registrations BV, 4 Tar Rock Rd., Westport, CT 06880.
7364 | Innovative Water Care, LLC D/B/A GLB Pool & Spa, 1400 Bluegrass Lakes Parkway, Alpharetta, GA 30004.
7754 | ARI, P.O. Box 510, Orchard Hill, GA 30266.
7946 | J. J. Mauget Co., 5435 Peck Road, Arcadia, CA 91006.
8660 | United Industries Corp. D/B/A Sylorr Plant Corp., P.O. Box 142642, St. Louis, MO 63114-0642.
9009 | Online Packaging, Inc., 4311 Liberty Lane, Plover, WI 54467.
9198 | The Andersons, Inc., 1947 Briarfield Blvd., Maumee, OH 43537.
9215 | Aqua Tri, 17872 Mitchell N., Irvine, CA 92614-6034.
10324 | Mason Chemical Company, 9075 Centre Pointe Dr., Suite 400, West Chester, OH 45069.
10707 | Baker Petrolite, LLC, 12645 West Airport Blvd., Sugar Land, TX 77478.
11556 | Elanco US, Inc., 2500 Innovation Way, Greenfield, IN 46140.
11773 | Van Diest Supply Company, P.O. Box 610, Webster City, IA 50595.
45385 | Ctx-Cenol, Inc., 1393 East Highland Rd., Twinsburg, OH 44087.
48302 | Chugoku Marine Paints (U.S.A.), Inc. D/B/A CMP Coatings, Inc., 1610 Engineers Road, Belle Chasse, LA 70037.
49547 | Alen Del Norte, S.A. De C.V., c/o Delta Analytical Corp., 12510 Prosperity Drive, Suite 160, Silver Spring, MD 20904.
51032 | Hondo, Inc., P.O. Box 9931, Bakersfield, CA 93389.
52287 | Harrell's, LLC, P.O. Box 807, Lakeland, FL 33802.
52484 | The Lubrizol Corporation, 29400 Lakeland Blvd., Wickliffe, OH 44092-8898.
53853 | The Fountainhead Group, Inc. D/B/A Burgess Products, 23 Garden Street, New York Mills, NY 13417.
54555 | Alzchem, LLC, 11390 Old Roswell Road, St. 124, Alpharetta, GA 30009.
57787 | Haviland Consumer Products, Inc., 421 Ann Street, NW, Grand Rapids, MI 49504.
58401 | Stellar Manufacturing, Co., 1647 Sauget Business Blvd., Sauget, IL 62206.
59106 | The Lubrizol Corporation, 29400 Lakeland Blvd., Wickliffe, OH 44092-2298.
59682 | Controlled Release Technologies, Inc., 1016 Industry Drive, Shelby, NC 28152.
59825 | The Lubrizol Corporation, 29400 Lakeland Blvd., Wickliffe, OH 44092-8898.
61468 | Koppers, Inc., 436 Seventh Avenue, K-1900, Pittsburgh, PA 15219-1800.
61671 | Mann Lake Ltd., 501 1st Street South, Hackensack, MN 56452-2001.
63269 | Thornton, Musso & Bellemin, Inc., P.O. Box 181, Zachary, LA 70791.
63838 | Enviro Tech Chemical Services, Inc., 500 Winmoore Way, Modesto, CA 95358.
63982 | B&B Blending, LLC, 10963 Leroy Drive, Northglenn, CO 80233.
67071 | Thor Specialties, Inc., 50 Waterview Drive, Shelton, CT 06484.
67867 | Bugg Products, LLC, 14505—21st Ave., N, Suite 214, Plymouth, MN 55447.
68539 | Bioworks, Inc. D/B/A Bioworks, 100 Rawson Road, Suite 205, Victor, NY 14564.
68889 | Tephritid Control, Inc., 87-3599 Mamalahoa Hwy., Captain Cook, HI 96704.
69340 | Andersen Sterilizers, Inc., Health Science Park, 3154 Caroline Drive, Haw River, NC 27258.
69526 | Petro-Canada Lubricants, Inc., 401 Plymouth Road Suite 350, Plymouth Meeting, PA 19462.
69681 | Allchem Performance Products, 416 South Main Street, Corsicana, TX 75110.
70062 | Management Contract Services, Inc., Landis International, Inc., P.O. Box 5126, Valdosta, GA 31603-5126.
70299 | Biosafe Systems, LLC, 22 Meadow Street, East Hartford, CT 06108.
70644 | Lidochem, Inc., 20 Village Court, Hazlet, NJ 07730.
70909 | Biosensory, Inc., 620 Main Street, Ste. 3A, East Greenwich, RI 02818.
71049 | Kim-C1, LLC, 726 W Barstow Avenue, Sute 108, Fresno, CA 93704.
73049 | Valent Biosciences, LLC, 1910 Innovation Way, Suite 100, Libertyville, IL 60048.
80286 | ISCA Technologies, Inc., 1230 W Spring Street, Riverside, CA 92507.
82552 | Rust-Oleum Corporation, 11. E Hawthorn Parkway, Vernon Hills, IL 60061.
82669 | Homs, LLC, 193 Lorax Lane, Pittsboro, NC 27312.
82940 | Actagro, LLC, 4516 N Howard Avenue, Kerman, CA 93630.
85341 | Revere Copper Products, Inc., One Revere Park, Rome, NY 13440.
85678 | Redeagle International, LLC, 5143 S Lakeland Drive, Suite 4, Lakeland, FL 33813.
86182 | Wagner Regulatory Associates, Inc., Agent For: Stockton (Israel) Ltd., P.O. Box 640, Hockessin, DE 19707.
86330 | Hollyfrontier Refining & Marketing, LLC, 401 Plymouth Road, Suite 350, Plymouth Meeting, PA 19462.
87193 | United Agricultural Services of America, Inc., Agent For: Custom Liquid Solutions, LLC, 534 CR 529A, Lake Panasoffkee, FL 33538.
87373 | Argite, LLC, 940 NW Cary Parkway, Suite 200, Cary, NC 27513.
87656 | Flex Ai, LLC, 5300 Derry Street, Harrisburg, PA 17111.
87663 | Emery Oleochemicals, LLC, 4900 Este Avenue, Cincinnati, OH 45232.
87845 | D. O'Shaughnessy Consulting, Inc., Agent For: Agromarketing Co., Inc., 206 Traditions Blvd., Bowling Green, KY 42103.
88089 | Biomed Protect, LLC, 1100 Corporate Square Drive, Suite 220, St. Louis, MO 63132.
88148 | Matheson, Inc., 1700 Scepter Road, Waverly, TN 37185.
89110 | Isomeric Industries Incorporated, 1600 First Ave., Bldg. 1-A, Big Spring, TX 79720.
89118 | Vive Crop Protection Inc., 500 Westover Dr., #10198, Sanford, NC 27330.
91069 | Die Bugs, Die!, LLC, P.O. Box 9363, Daytona Beach, FL 32120.
91209 | Bluetech Laboratories, Inc., 8 The Green, Suite 14582, Dover, DE 19901.
91234 | Atticus, LLC, 940 NW Cary Parkway, Suite 200, Cary, NC 27513.
91374 | Lubricant Marketing and Research, Inc., 12238 Kindred St., Houston, TX 77049.
92068 | Miracle Titanium, LLC, 14241 Dallas Parkway, Dallas, TX 75254.
92120 | Hazel Technologies, Inc., 320 N Sangamon Street, Suite 400, Chicago, IL 60607.
92647 | Tigris, LLC, 10025 Hwy. 264 Alternate, Middlesex, NC 27557.
93051 | Rightline, LLC, 950 Falcon Drive, Malden, MO 63863.
93507 | Mayzo, Inc., 3935 Lakefield Court, Suwanee, GA 30024.
93569 | Genagri, LLC, 422 Jasmine Way, Roseburg, OR 97471.
93594 | Gti Chemical Solutions, Inc., P.O. Box 517, Drayton, SC 29333.
94418 | Shiloh Animal Health, Inc., P.O. Box 13301, Lexington, KY 40583.
94865 | Terrace Packaging Co., 2819 Southwest Blvd., Kansas City, MO 64108.
95393 | Lewis & Harrison, LLC, Agent For: Quatrus, LLC, 2461 South Clark Street, Suite 710, Arlington, VA 22202.
96041 | Industrial Product Formulators of America, Inc., 1790 Boyd St, Santa Ana, CA 92705.
98022 | IDW Textile, LLC, Agent For: IDW Textile, LLC, 147 Bergen Court, Ridgewood, NJ 07450.

III. What is the Agency's authority for taking this action?

FIFRA section 6(f)(1) (7 U.S.C. 136d(f)(1)) provides that a registrant of a pesticide product may at any time request that any of its pesticide registrations be canceled. FIFRA further provides that, before acting on the request, EPA must publish a notice of receipt of any such request in the Federal Register. EPA will provide a 30-day comment period on the proposed requests. Thereafter, the EPA Administrator may approve such a request.

IV. Procedures for Withdrawal of Request

Registrants who choose to withdraw a request for cancellation should submit such withdrawal in writing to the person listed under FOR FURTHER INFORMATION CONTACT. If the products have been subject to a previous cancellation action, the effective date of cancellation and all other provisions of any earlier cancellation action are controlling.

V. Provisions for Disposition of Existing Stocks

Existing stocks are those stocks of registered pesticide products that are currently in the United States and that were packaged, labeled, and released for shipment prior to the effective date of the cancellation action. Upon cancellation of the products identified in Table 1 of Unit II, EPA anticipates allowing registrants to sell and distribute existing stocks of these products until January 15, 2024, or the date of that the cancellation notice is published in the Federal Register, whichever is later. Thereafter, registrants will be prohibited from selling or distributing the pesticides identified in Table 1 of Unit II, except for export consistent with FIFRA section 17 or for proper disposal. Persons other than registrants will generally be allowed to sell, distribute, or use existing stocks until such stocks are exhausted, provided that such sale, distribution, or use is consistent with the terms of the previously approved labeling on, or that accompanied, the canceled products.

Authority: 7 U.S.C. 136 et seq.

Dated: July 18, 2024.
Charles Smith,
Director, Registration Division, Office of Pesticide Programs.

[FR Doc. 2024-16486 Filed 7-25-24; 8:45 am]

BILLING CODE 6560-50-P